DEPARTMENT OF AGRICULTURE

Submission for OMB Review; Comment Request

February 21, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by March 28, 2018 will be considered. Written comments should be addressed to: Desk Officer for Agriculture, Office of Information and Regulatory Affairs, Office of Management and Budget (OMB), New Executive Office Building, 725 17th Street NW, Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

30-Day Federal Register Notice

Forest Service

Title: Financial Information Security Request Form.

OMB Control Number: 0596-0204.

Summary of Collection: The majority of Forest Service's (FS) financial records are in databases stored at the National Finance Center (NFC). The Federal Information Security Reform Act of 2002 (Pub. L. 107-347) and Information Technology Management Reform Act of 1996 (Pub. L. 104-106) authorize the Forest Service to obtain information necessary for contracted employees to access and maintain these records.

Need and use of the Information: The Forest Service uses a paper and electronic version of its form FS-6500-214 to gather name, work email, work telephone number, job title etc. for a specific contracted employee to apply to NFC for access. Prior to filling out the firm, contractors must first complete specific training before a user may request access to certain financial systems. NFC grants access to users only at the request of Client Security Officers. The unit's Client Security Officer is responsible for management of access to computers and coordinates all requests for NFC. The information collected is shared with those managing or overseeing the financial systems used by the FS, this includes auditors.

Description of Respondents: Contracted Employees.

Number of Respondents: 209.

Frequency of Reponses: Reporting: Yearly.

Total Burden Hours: 315.

Forest Service

Title: Outreach Opportunity Questionnaire.

OMB Control Number: 0596-0207.

Summary of Collection: Title VI of the Civil Rights Act prohibits discrimination based on race, color, or national origin in federally assisted or direct programs of the Federal Government. Section 703 in Title VII of the Civil Rights Act prohibits discrimination in employment based on race, color, religion, sex, or national origin in actions affecting employees or applicants for employment. The Forest Service (FS) requires outreach and recruitment of diverse candidates as a strategy to create a diverse and multicultural workforce within the agency. FS will the Outreach Opportunity Questionnaire to collect information regarding ethnicity and race, and responses on: Helpfulness of information provided by the FS at career fairs, whether information received was what the respondents was seeking, and whether application procedures were clear and simple.

Need and Use of the Information: The information will be used to evaluate effectiveness of the Civil Rights Outreach Programs conducted by the Northeastern Research Service Center. The information will also be used to determine the effectiveness of career days and to track outreach efforts at career fairs.

Description of Respondents: Individuals or households.

Number of Respondents: 675.

Frequency of Reponses: Reporting: Yearly.

Total Burden Hours: 44.

Ruth Brown,
Departmental Information Collection Clearance Officer.

[FR Doc. 2018-03826 Filed 2-23-18; 8:45 am]

BILLING CODE 3411-15-P